DEPARTMENT OF THE INTERIOR

Bureau of Land Management

[LLCO956000 L14400000.BJ0000 17X]

Notice of Filing of Plats of Survey; Colorado

AGENCY: Bureau of Land Management, Interior.

ACTION: Notice of official filing.

SUMMARY: The plats of survey of the following described lands are scheduled to be officially filed in the Bureau of Land Management (BLM), Colorado State Office, Lakewood, Colorado, 30 calendar days from the date of this publication. The surveys, which were executed at the request of the U.S. Forest Service, the Bureau of Indian Affairs, the National Park Service, and the BLM, are necessary for the management of these lands.

DATES: Unless there are protests of this action, the plats described in this notice will be filed on July 28, 2017.

ADDRESSES: You may submit written protests to the BLM Colorado State Office, Cadastral Survey, 2850 Youngfield Street, Lakewood, CO 80215-7093.

FOR FURTHER INFORMATION CONTACT: Randy Bloom, Chief Cadastral Surveyor for Colorado; (303) 239-3856; rbloom@blm.gov. Persons who use a telecommunications device for the deaf may call the Federal Relay Service at 1-800-877-8339 to contact the above individual during normal business hours. The Service is available 24 hours a day, seven days a week, to leave a message or question with the above individual. You will receive a reply during normal business hours.

SUPPLEMENTARY INFORMATION: A person or party who wishes to protest a survey must file a notice that they wish to protest with the Chief, Branch of Cadastral Survey. A statement of reasons for a protest may be filed with the notice of protest and must be filed with the Chief, Branch of Cadastral Survey within 30 days after the protest is filed. If a protest against the survey is received prior to the date of official filing, the filing will be stayed pending consideration of the protest. A plat will not be officially filed until the day after all protests have been dismissed or otherwise resolved. Before including your address, phone number, email address, or other personal identifying information in your comment, you should be aware that your entire comment, including your personal identifying information, may be made publicly available at any time. While you can ask us in your comment to withhold your personal identifying information from public review, we cannot guarantee that we will be able to do so.

The plat and field notes of the dependent resurvey and survey in Township 14 South, Range 67 West, Sixth Principal Meridian, Colorado, were accepted on February 3, 2017.

The plat and field notes of the dependent resurvey and corrective dependent resurvey in Township 33 North, Range 7 West, New Mexico Principal Meridian, Colorado, were accepted on March 14, 2017.

The plat and field notes of the dependent resurvey and subdivision of sections 34 and 35 in Township 50 North, Range 8 West, New Mexico Principal Meridian, Colorado, were accepted on March 20, 2017.

The monument for the corner of sections 15, 16, 21, and 22, Township 4 South, Range 95 West, Sixth Principal Meridian, Colorado, was determined to be out of position by more than 200 feet, although it was correctly depicted on the official BLM plat of survey, Group No. 571, approved July 11, 1977. Based on discussions and direction by BLM Colorado Cadastral Survey, Wasatch Surveying Associates set a private monument with a cap marked accordingly at the point of the true section corner location determined by the double proportionate method, as depicted on the survey plat filed by Wasatch Surveying Associates, February 13, 2017, Reception Number 1042, with Garfield County, Colorado, and on February 21, 2017, Reception Number 314038, with Rio Blanco County, Colorado. The displaced BLM monument was stamped “Alternate Monument” and buried 12 inches below ground level at the erroneous location.

The plat, in two sheets, incorporating the field notes of the dependent resurvey and subdivision of section 4 in Township 10 South, Range 77 West, Sixth Principal Meridian, Colorado, was accepted on March 29, 2017.

Authority: 43 U.S.C. Chap. 3.

Randy A. Bloom,
Chief Cadastral Surveyor.

[FR Doc. 2017-13533 Filed 6-27-17; 8:45 am]

BILLING CODE 4310-JB-P